DEPARTMENT OF TRANSPORTATION

Office of the Secretary

Notice of Applications for Certificates of Public Convenience and Necessity and Foreign Air Carrier Permits Filed Under Subpart B (Formerly Subpart Q) During the Week Ending November 12, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19617.

Date Filed: November 8, 2004.

Due Date for Answers, Conforming Applications, or Motion to Modify Scope: November 29, 2004.

Description: Application of Atlantic Express, Inc. requesting a certificate of public convenience and necessity to engage in scheduled foreign air transportation of persons, property and mail between any point or points in the United States via intermediate points to a point or points in The Netherlands and beyond; from points behind the United States via the United States and intermediate points to a point or points in Germany and beyond; and between any point or points in the United States and any point or point in the United Kingdom (other than London's Heathrow or Gatwick Airports).

Andrea M. Jenkins,
Program Manager, Docket Operations, Federal Register Liaison.

[FR Doc. 04-26094 Filed 11-24-04; 8:45 am]

BILLING CODE 4910-62-P